DEPARTMENT OF COMMERCE

International Trade Administration

A-570-900

Diamond Sawblades and Parts Thereof from the People's Republic of China: Initiation of Antidumping Duty New Shipper Review

AGENCY: Import Administration, International Trade Administration, Department of Commerce.

EFFECTIVE DATE: June 28, 2010.

SUMMARY: The Department of Commerce (“Department”) has determined that a request for a new shipper review (“NSR”) of the antidumping duty order on diamond sawblades and parts thereof (“diamond sawblades”) from the People's Republic of China (“PRC”), received on April 30, 2010, meets the statutory and regulatory requirements for initiation. The period of review (“POR”) for the NSR is January 23, 2009, through April 30, 2010.

FOR FURTHER INFORMATION CONTACT: Alan Ray, AD/CVD Operations, Office 9, Import Administration, International Trade Administration, U.S. Department of Commerce, 14th Street and Constitution Avenue, NW, Washington, DC 20230; telephone: 202-482-5403.

SUPPLEMENTARY INFORMATION:

Background

The notice announcing the antidumping duty order on diamond sawblades from the PRC was published in the Federal Register on November 4, 2009. See Diamond Sawblades and Parts Thereof From the People's Republic of China and the Republic of Korea: Antidumping Duty Orders, 74 FR 57145 (November 4, 2009) (“Antidumping Duty Order”). On April 30, 2010, pursuant to section 751(a)(2)(B)(i) of the Tariff Act of 1930, as amended (“Act”), the Department received a NSR request from Pujiang Talent Diamond Tools Co., Ltd. (“PTDT”). PTDT's request was properly made on April 30, 2010, May being the semi-annual anniversary of the Antidumping Duty Order. PTDT certified that it is both the producer and exporter of the subject merchandise upon which the request was based. PTDT also submitted a public version of its request, which adequately summarized proprietary information and provided explanations as to why certain proprietary information is not capable of summarization.

Pursuant to section 751(a)(2)(B)(i)(I) of the Act and 19 CFR 351.214(b)(2)(i), PTDT certified that it did not export subject merchandise to the United States during the period of investigation (“POI”). In addition, pursuant to section 751(a)(2)(B)(i)(II) of the Act and 19 CFR 351.214(b)(2)(iii)(A), PTDT certified that, since the initiation of the investigation, it has never been affiliated with any PRC exporter or producer who exported subject merchandise to the United States during the POI, including those respondents not individually examined during the investigation. As required by 19 CFR 351.214(b)(2)(iii)(B), PTDT also certified that its export activities were not controlled by the central government of the PRC.

In addition to the certifications described above, pursuant to 19 CFR 351.214(b)(2)(iv)(A), (B), and (C), PTDT submitted documentation establishing the following: (1) the date on which PTDT first shipped subject merchandise for export to the United States; (2) the volume of its first shipment; and (3) the date of its first sale to an unaffiliated customer in the United States.

The Department conducted U.S. Customs and Border Protection (“CBP”) database queries in an attempt to confirm that PTDT's shipments of subject merchandise had entered the United States for consumption and that liquidation of such entries had been properly suspended for antidumping duties.¹ The Department also examined whether the CBP data confirmed that such entries were made during the NSR POR. The information we examined was consistent with that provided by PTDT.

¹ The Department only resumed the suspension of liquidation of sawblades and parts on January 23, 2009, as prior to that date, no order was in place because the ITC found in its final determination that domestic parties had not suffered from the importation of diamond sawblades from the PRC. As such, without an order in place, CBP had no authority to suspend the liquidation of entries. On August 30, 2009, the CIT ordered the Department to issue the order, and it was effective retroactive to January 23, 2009. See Antidumping Duty Order. The deposit rates that CBP collected for entries after January 23, 2009, were the antidumping duty rates from the Final Determination. See Final Determination of Sales at Less Than Fair Value and Final Partial Affirmative Determination of Critical Circumstances: Diamond Sawblades and Parts Thereof from the People's Republic of China, 71 FR 29303, (May 22, 2006) (“Final Determination”).

Initiation of New Shipper Review

Pursuant to section 751(a)(2)(B) of the Act and 19 CFR 351.214(d)(1), we find that the request submitted by PTDT meets the threshold requirements for initiation of a new shipper review for shipments of diamond sawblades from the PRC produced and exported by PTDT. See “Memorandum to the File From Alan Ray, Case Analyst, New Shipper Initiation Checklist: Diamond Sawblades and Parts Thereof From the People's Republic of China and the Republic of Korea (A-570-900),” dated concurrently with this notice. The POR is January 23, 2009, through April 30, 2010. See 19 CFR 351.214(g)(1)(ii)(B). The Department intends to issue the preliminary results of this NSR no later than 180 days from the date of initiation, and the final results no later than 270 days from the date of initiation. See section 751(a)(2)(B)(iv) of the Act.

It is the Department's usual practice, in cases involving non-market economies, to require that a company seeking to establish eligibility for an antidumping duty rate separate from the country-wide rate provide evidence of de jure and de facto absence of government control over the company's export activities. Accordingly, we will issue questionnaires to PTDT, which will include a section requesting information with regard to PTDT's export activities for separate rates purposes. The review will proceed if the response provides sufficient indication that PTDT is not subject to either de jure or de facto government control with respect to its exports of subject merchandise.

We will instruct CBP to allow, at the option of the importer, the posting, until the completion of the review, of a bond or security in lieu of a cash deposit for each entry of the subject merchandise from PTDT in accordance with section 751(a)(2)(B)(iii) of the Act and 19 CFR 351.214(e). Because PTDT certified that it both produced and exported the subject merchandise, the sale of which is the basis for this new shipper review request, we will apply the bonding privilege to PTDT only for subject merchandise which PTDT both produced and exported.

Interested parties requiring access to proprietary information in this NSR should submit applications for disclosure under administrative protective order in accordance with 19 CFR 351.305 and 351.306. This initiation and notice are in accordance with section 751(a)(2)(B) of the Act and 19 CFR 351.214 and 351.221(c)(1)(i).

Dated: June 17, 2010.
Gary Taverman,
Acting Deputy Assistant Secretary for Antidumping and Countervailing Duty Operations.

[FR Doc. 2010-15216 Filed 6-25-10; 8:45 am]

BILLING CODE 3510-DS-S